DEPARTMENT OF LABOR

Employment and Training Administration

[TA-W-63,692]

Pacific Pulse, d/b/a Firewire Surfboards, a/k/a Fluid Drive, San Diego, CA; Amended Certification Regarding Eligibility To Apply for Worker Adjustment Assistance and Negative Determination Regarding Eligibility To Apply for Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Negative Determination Regarding Eligibility to Apply for Alternative Trade Adjustment Assistance on August 1, 2008, applicable to workers of Firewire Surfboards, San Diego, California. The notice was published in the Federal Register on August 12, 2008 (73 FR 46922).

At the request of the State agency, the Department reviewed the certification for workers of the subject firm. The workers are engaged in the production of surfboards.

New information shows that the correct name of the subject firm should read Pacific Pulse, d/b/a Firewire Surfboards, a/k/a Fluid Drive, San Diego, California. Workers wages at the subject firm are being reported under the Unemployment Insurance (UI) tax account for Pacific Pulse, d/b/a Firewire Surfboards, a/k/a Fluid Drive.

Accordingly, the Department is amending this certification to correctly identify the name of the subject firm.

The intent of the Department's certification is to include all workers of Pacific Pulse, d/b/a Firewire Surfboards, a/k/a Fluid Drive who were adversely affected by increased imports of surfboards.

The amended notice applicable to TA-W-63,692 is hereby issued as follows:

All workers of Pacific Pulse, d/b/a Firewire Surfboards, a/k/a Fluid Drive, San Diego, California, who became totally or partially separated from employment on or after July 3, 2007 through August 1, 2010, are eligible to apply for adjustment assistance under Section 223 of the Trade Act of 1974, and; I further determine that all workers of Pacific Pulse, d/b/a Firewire Surfboards, a/k/a Fluid Drive, San Diego, California, are denied eligibility to apply for alternative trade adjustment assistance under Section 246 of the Trade Act of 1974.

Signed at Washington, DC this 14th day of January 2009.
Elliott S. Kushner,
Certifying Officer, Division of Trade Adjustment Assistance.

[FR Doc. E9-2137 Filed 1-30-09; 8:45 am]

BILLING CODE 4510-FN-P